DEPARTMENT OF THE INTERIOR

Bureau of Ocean Energy Management

30 CFR Part 556

[Docket ID: BOEM-2025-0024]

RIN 1010-AE30

Rescission of Cross References

AGENCY: Bureau of Ocean Energy Management, Interior.

ACTION: Final rule.

SUMMARY: The Bureau of Ocean Energy Management (BOEM) is amending its regulations to rescind a section containing cross references. This section is not necessary because it is non-regulatory and only cites references to other regulations.

DATES: This final rule is effective on July 22, 2025.

FOR FURTHER INFORMATION CONTACT: Jennifer Jones, Office of Regulatory Affairs, BOEM, 1849 C Street NW, Washington, DC 20240, at email address jennifer.jones@boem.gov, or at telephone number (202) 571-8664.

SUPPLEMENTARY INFORMATION:

Background information. This final rule revises the Department of the Interior's (DOI or the Department) regulations, which are administered by BOEM, that contain a provision listing cross references in section 556.103 of title 30 of the Code of Federal Regulations. This section cites other laws and regulations pertaining to offshore oil and gas development. Upon reviewing this regulation, BOEM has determined that it should be rescinded because it does not regulate the public and is unnecessary. BOEM has determined that this reason, independently and alone, justifies rescission of 30 CFR 556.103. BOEM has no interest in maintaining a rule that is unnecessary.

BOEM has determined that this rule is not subject to the notice and comment requirements of the Administrative Procedure Act (APA). Additionally, BOEM has determined that there is good cause for making this administrative amendment final without prior proposal and opportunity for comment because the revisions are not substantive and have no impact on the regulatory requirements of the affected parts. BOEM has determined that public comment on such administrative changes is unnecessary and that there is good cause under the APA for proceeding with a final rule. Furthermore, because a notice of proposed rulemaking and opportunity for public comment are not required to be given for this rule under the APA or any other law, the analytical requirements of the Regulatory Flexibility Act are not applicable. Accordingly, this rule is issued in final form. There is good cause to make this rule effective in fewer than 30 days after publication in the Federal Register because the revisions are administrative in nature. Therefore, this final rule is effective upon publication.

Organization of this document. The information in this preamble is organized as follows:

I. General Information

A. Purpose of This Regulatory Action and Summary

B. Does this action apply to me?

C. Where can I get a copy of this document and other related information?

II. Background

A. BOEM Statutory and Regulatory Authority

III. Statutory and Executive Order Reviews

A. Executive Order (E.O.) 12866: Regulatory Planning and Review, as Amended by Executive Order 13563: Improving Regulation and Regulatory Review

B. Regulatory Flexibility Act (RFA)

C. Small Business Regulatory Enforcement Fairness Act (SBREFA)

D. Unfunded Mandates Reform Act (UMRA)

E. Executive Order 12630: Governmental Actions and Interference With Constitutionally Protected Property Rights

F. Executive Order 13132: Federalism

G. Executive Order 12988: Civil Justice Reform

H. Executive Order 13175: Consultation and Coordination With Indian Tribal Governments

I. Paperwork Reduction Act (PRA)

J. National Environmental Policy Act (NEPA)

K. Data Quality Act

L. Executive Order 13211: Actions Concerning Regulations That Significantly Affect Energy Supply, Distribution, or Use

M. Congressional Review Act (CRA)

I. General Information

A. Purpose of This Regulatory Action and Summary

30 CFR 556.103 contains only a list of cross references to other regulatory provisions and does not promulgate any regulations. BOEM does not wish to maintain unnecessary rules, and this section will be removed. This final action removes 30 CFR 556.103.

B. Does this action apply to me?

30 CFR 556.103 does not regulate the public. This is an administrative change only and its removal does not affect any legal rights, obligations, or interests of any affected party.

C. Where can I get a copy of this document and other related information?

In addition to being available in the docket, BOEM will post an electronic copy of this final rule at: https://www.boem.gov/about-boem/regulations-guidance/published-rules.

II. Background

A. BOEM Statutory and Regulatory Authority

Section 5 of Outer Continental Shelf Lands Act (OCSLA)(43 U.S.C. 1334) authorizes the Secretary to issue regulations to administer leasing for mineral development on the Outer Continental Shelf (OCS). Section 5(a) of OCSLA (43 U.S.C. 1334(a)) authorizes the Secretary to “prescribe such rules and regulations as may be necessary to carry out [provisions of OCSLA]” related to leasing on the OCS. This rule only makes administrative changes to remove a section that does not regulate the public.

III. Statutory and Executive Order Reviews

A. Executive Order (E.O.) 12866: Regulatory Planning and Review, as Amended by Executive Order 13563: Improving Regulation and Regulatory Review

E.O. 12866 gives OMB the authority to review regulatory actions that are categorized as “significant”; i.e., those actions that are likely to result in a rule that may:

• Have an annual effect on the economy of $100 million or more or adversely affect in a material way the economy; a sector of the economy; productivity; competition; jobs; the environment; public health or safety; or State, local or tribal governments or communities;

• Create a serious inconsistency or otherwise interfere with an action taken or planned by another agency;

• Materially alter the budgetary impacts of entitlements, grants, user fees or loan programs or the rights and obligations of recipients thereof; or

• Raise novel legal or policy issues arising out of legal mandates, the President's priorities, or the principles set forth in the Executive Order.

E.O. 12866 provides that the Office of Information and Regulatory Affairs (OIRA) in the Office of Management and Budget (OMB) will review all significant rules. OIRA has determined that this action is not a significant regulatory action, and therefore, it was not submitted to OMB for review.

E.O. 13563 reaffirms the principles of E.O. 12866 while calling for improvements in the Nation's regulatory system to promote predictability and reduce uncertainty, and to use the best, most innovative, and least burdensome tools for achieving regulatory ends. E.O. 13563 directs agencies to consider regulatory approaches that reduce burdens and maintain flexibility and freedom of choice for the public where these approaches are relevant, feasible, and consistent with regulatory objectives. BOEM has developed this rule in a manner consistent with these requirements.

B. Regulatory Flexibility Act (RFA)

The RFA, 5 U.S.C. 601-612, requires agencies to prepare a regulatory flexibility analysis for any rule subject to notice and comment rulemaking requirements under the APA unless the rule will not have a significant economic impact on a substantial number of small entities.

The RFA applies only to rules for which an agency is required to first publish a proposed rule. See 5 U.S.C. 603(a) and 604(a). Because no proposed rule was published for this recission, no RFA analysis is required.

C. Small Business Regulatory Enforcement Fairness Act (SBREFA)

The SBREFA, 5 U.S.C. 804(2), requires BOEM to perform a regulatory flexibility analysis, provide guidance, and help small businesses comply with statutes and regulations for major rulemakings. This action is not subject to the SBREFA because it: (1) does not have an annual effect on the economy of $100 million or more; (2) will not cause a major increase in costs or prices for consumers, individual industries, Federal, State, or local government agencies, or geographic regions; and (3) does not have significant adverse effects on competition, employment, investment, productivity, innovation, or the ability of U.S.-based enterprises to compete with foreign-based enterprises.

BOEM anticipates the final rule would have neither significant employment nor small business impacts; nor cause major price increases for consumers, businesses, or governments; nor significantly degrade competition, employment, investment, productivity, innovation, or the ability of U.S. businesses to compete against foreign businesses. The rule only rescinds a section that does not regulate the public.

Small businesses may send comments on the actions of Federal employees who enforce or otherwise determine compliance with Federal regulations to the Small Business and Agriculture Regulatory Enforcement Ombudsman, and to the Regional Small Business Regulatory Fairness Board. The Ombudsman evaluates these actions annually and rates each agency's responsiveness to small business. If you wish to comment on actions by employees of BOEM, call 1-888-REG-FAIR (1-888-734-3247).

D. Unfunded Mandates Reform Act (UMRA)

The UMRA, 2 U.S.C. 1531-1538, requires Federal agencies, unless otherwise prohibited by law, to assess the effects of regulatory actions on State, local and Tribal governments, and the private sector. Section 202 of UMRA generally requires Federal agencies to prepare a written statement, including a cost-benefit analysis, for each proposed and final rule with “Federal mandates” that may result in expenditures by State, local, and Tribal governments, in the aggregate, or to the private sector of $100 million or more in any one year. BOEM has determined this action does not contain any unfunded mandate as described in UMRA 2, U.S.C. 1531-1538, and does not significantly or uniquely affect small groups.

The action imposes no enforceable duty on any State, local, or Tribal governments or the private sector.

E. Executive Order 12630: Governmental Actions and Interference With Constitutionally Protected Property Rights

E.O. 12630 ensures that government actions affecting the use of private property are undertaken on a well-reasoned basis with due regard for the potential financial impacts imposed on the government. This action does not effect a taking of private property or otherwise have taking implications under E.O. 12630. A takings implication assessment is not required.

F. Executive Order 13132: Federalism

E.O. 13132 revoked and replaced E.O.s 12612 (Federalism) and 12875 (Enhancing the Intergovernmental Partnership). E.O. 13132 took effect on November 2, 1999, and thus applies to actions published on or after November 2, 1999. Sections 3 and 6 of E.O. 13132 apply to policies with federalism implications, defined in the Executive Order as including actions that have “substantial direct effects on the States, on the relationship between the national government and the States, or on the distribution of power and responsibilities among the various levels of government.”

Regulatory actions that have substantial direct effects on the States, on the relationship between the national government and the States, or on the distribution of power and responsibilities among the various levels of government are subject to E.O. 13132. Under the criteria in section 1 of E.O. 13132, this rule does not have sufficient federalism implications to warrant the preparation of a federalism summary impact statement. It will not have substantial direct effects on the States, on the relationship between the national government and the States, or on the distribution of power and responsibilities among the various levels of government.

G. Executive Order 12988: Civil Justice Reform

E.O. 12988 requires that rules:

(1) Meet the criteria of section 3(a) requiring that all regulations be reviewed to eliminate errors and ambiguity and be written to minimize litigation; and

(2) Meet the criteria of section 3(b)(2) requiring that all regulations be written in clear language and contain clear legal standards.

This rule complies with the requirements of E.O. 12988.

H. Executive Order 13175: Consultation and Coordination With Indian Tribal Governments

The Department and BOEM strive to strengthen their government-to-government relationships with Indian Tribes through a commitment to consultation with Indian Tribes and recognition of the Tribes' right to self-governance and Tribal sovereignty. BOEM evaluated this rule under the Department's consultation policy, Departmental Manual part 512, chapters 4 and 5, and E.O. 13175. BOEM determined that this rule has no substantial direct effects on federally recognized Indian Tribes or Alaska Native Claims Settlement Act Corporations and that consultation under existing Department and BOEM policies is not required.

I. Paperwork Reduction Act (PRA)

This rule does not contain information collection requirements, and a submission to the OMB under the PRA (44 U.S.C. 3501 et seq.) is not required. An agency may not conduct or sponsor, and a person is not required to respond to, a collection of information unless it displays a currently valid OMB control number.

J. National Environmental Policy Act (NEPA)

This rule does not constitute a major Federal action significantly affecting the quality of the human environment. A detailed environmental analysis under NEPA is not required because the final rule is covered by a categorical exclusion (see 43 CFR 46.205). This final rule meets the criteria set forth at 43 CFR 46.210(i) for a Departmental categorical exclusion in that this final rule is “of an administrative, financial, legal, technical, or procedural nature.” BOEM has also determined that the final rule does not involve any of the extraordinary circumstances listed in 43 CFR 46.215 that would require further analysis under NEPA.

K. Data Quality Act

In promulgating this rule, BOEM did not conduct or use a study, experiment, or survey requiring peer review under the Data Quality Act (Pub. L. 106-554, app. C, sec. 515, 114 Stat. 2763, 2763A-153-154). In accordance with the Data Quality Act, the Department has issued guidance regarding the quality of information that it relies upon for regulatory decisions. This guidance is available at the Department's website at: https://www.doi.gov/ocio/policy-mgmt-support/information-and-records-management/iq.

L. Executive Order 13211: Actions Concerning Regulations That Significantly Affect Energy Supply, Distribution, or Use

E.O. 13211 was issued on May 22, 2001, and requires Federal agencies to prepare a “Statement of Energy Effects” when undertaking certain regulatory actions. This statement describes the adverse effects of a “significant energy action” on energy supply, distribution and use; reasonable alternatives to the action; and the expected effects of the alternatives on energy supply, distribution and use.

Under E.O. 13211, BOEM is required to prepare and submit to OMB a “Statement of Energy Effects” for “significant energy actions.” This should include a detailed statement of any adverse effects on energy supply, distribution, or use (including a shortfall in supply, price increases, and increased use of foreign supplies) expected to result from the action and a discussion of reasonable alternatives and their effects. This action is not subject to E.O. 13211, because it is not a significant regulatory action under E.O. 12866.

M. Congressional Review Act (CRA)

The CRA, 5 U.S.C. 801-808, established a mechanism to expedite congressional review of agency rules. The CRA generally provides that before a rule may take effect, the agency promulgating the rule must submit a rule report, which includes a copy of the rule, to each House of the Congress and to the Comptroller General of the United States. It is important to note that the CRA applies only to final rules; it does not apply to proposed rules. BOEM generally submits a report containing the rule and other required information to the U.S. Senate, the U.S. House of Representatives and the Comptroller General of the United States prior to publication of the rule in the Federal Register. A “major rule” cannot take effect until 60 days after it is published in the Federal Register or is submitted to Congress, whichever is later.

This rule is exempt from the CRA because it is a rule of Department organization, procedure or practice that does not substantially affect the rights or obligations of non-agency parties (5 U.S.C. 804(3)).

List of Subjects in 30 CFR Part 556

Administrative practice and procedure, Continental shelf, Environmental protection, Government contracts, Intergovernmental relations, Mineral resources, Oil and gas exploration, Public lands, Reporting and recordkeeping requirements, Rights-of-way.

This action by the Assistant Secretary is taken herein pursuant to an existing delegation of authority.

Adam G. Suess,
Acting Assistant Secretary, Land and Minerals Management.

For the reasons stated in the preamble, the Department of the Interior amends 30 CFR part 556 as set forth below:

PART 556—LEASING OF SULFUR OR OIL AND GAS AND FINANCIAL ASSURANCE REQUIREMENTS IN THE OUTER CONTINENTAL SHELF

1. The authority citation for part 556 continues to read as follows:

Authority: 31 U.S.C. 9701; 42 U.S.C. 6213; 43 U.S.C. 1334.

§ 556.103 [Removed and Reserved]

2. Remove and reserve § 556.103.

[FR Doc. 2025-13780 Filed 7-21-25; 8:45 am]

BILLING CODE 4340-98-P